DEPARTMENT OF HEALTH AND HUMAN SERVICES

Centers for Disease Control and Prevention

[30DAY-16-02]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-7090. Send written comments to CDC, Desk Officer, Human Resources and Housing Branch, New Executive Office Building, Room 10235, Washington, DC 20503. Written comments should be received within 30 days of this notice.

Proposed Project: Outcome Evaluation of CDC's Youth Media Campaign—New—National Center for Chronic Disease Prevention and Health Promotion (NCCDPHP), Centers for Disease Control and Prevention (CDC). CDC, working in collaboration with the Health Resources and Services Administration (HRSA), the National Center for Child Health and Human Development (NICHD), and the Substance Abuse and Mental Health Services Administration (SAMHSA), is coordinating an effort to plan, implement, and evaluate a campaign designed to clearly communicate messages that will help kids develop habits that foster good health over a lifetime. The Campaign will be based on principles that have been shown to enhance success, including: designing messages based on research; testing messages with the intended audiences; involving young people in all aspects of Campaign planning and implementation; enlisting the involvement and support of parents and other influencers; tracking the Campaign's effectiveness and revising Campaign messages and strategies as needed.

For the Campaign to be successful, a thorough understanding of tweens (youth ages 9-13), the health behaviors promoted, and the barriers and motivations for adopting and sustaining them is essential. Additionally, a thorough understanding of those who can influence the health behaviors of tweens is important. This understanding will facilitate the development of messages, strategies, and tactics that resonate with tweens, parents and other influencers.

Research for the national and minority audience components of the Youth Media Campaign will identify the target audience(s) using standard market research techniques and will address geographic and demographic diversity to the extent necessary to assure appropriate audience representation.

The intent of this audience research is to solicit input and feedback from audiences on a national level and from audiences within targeted populations. Information gathered from both audiences will be used to modify/refine and/or revise Campaign messages and strategies and evaluate Campaign effectiveness. The annual burden for this data collection is 3,584 hours.

Respondents | Number of respondents | Number of responses/respondent | Average burden per response (in hours)
Screening | 73,885 | 1 | 1/60
Child Youth Media Survey | 5,939 | 1 | 10/60
Parent Youth Media Survey | 6,293 | 1 | 13/60

Dated: January 18, 2002.
Nancy E. Cheal,
Acting Associate Director for Policy, Planning and Evaluation, Centers for Disease Control and Prevention.

[FR Doc. 02-1959 Filed 1-25-02; 8:45 am]

BILLING CODE 4163-18-P